Title 3—

The President

Memorandum of September 25, 2017

Delegation of Authority Under the Consolidated Appropriations Act, 2017

Memorandum for the Secretary of State

By the authority vested in me as President by the Constitution and the laws of the United States of America, I hereby delegate to the Secretary of State the functions and authorities vested in the President by section 10006 of the Consolidated Appropriations Act, 2017 (Public Law 115-31) (the “Act”).

The delegation in this memorandum shall apply to any provision of any future public law that is the same or substantially the same as section 10006 of the Act.

You are authorized and directed to publish this memorandum in the Federal Register.

THE WHITE HOUSE,

Washington, September 25, 2017

[FR Doc. 2017-21704

Filed 10-4-17; 11:15 am]

Billing code 4710-10-P